DEPARTMENT OF AGRICULTURE

Submission for OMB Review; Comment Request

February 17, 2010.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Forest Service

Title: Visitor Permit and Visitor Registration Card.

OMB Control Number: 0596-0019.

Summary of Collection: The Organic Administration Act (30 stat.11), the Wilderness Act (78 stat.890), the Wild and Scenic River Act (82 stat. 906) and Executive Order 11644, all authorize the Forest Service (FS) to manage the forests to benefit both land and people. The information collected from the Visitor's Permit Form (FS-2300-30) and Visitor Registration Card (FS-2300-32) help the Forest Service ensure that visitors' use of National Forest System lands is in the public interest and compatible with the mission of the agency. The information is collected from National Forest System land visitors, who will be asked to describe their intended use of the land and the estimated duration of their visit.

Need and Use of the Information: FS will collect the visitor's name, address, area to be visited, date of visit, length of stay, method of travel, number of people, and number of pack and saddle stock. The permit and registration card allows managers to identify heavily used areas to prepare restoration and monitoring plans that reflect where use is occurring, and in extreme cases, to develop plans to move forest users to lesser-impacted areas. The completed forms also provide managers with information useful in locating lost forest visitors. Not being able to use these forms could result in overuse and site deterioration in environmentally sensitive areas.

Description of Respondents: Individuals or households; business or other for-profit; not-for profit institutions.

Number of Respondents: 460,000.

Frequency of Responses: Reporting: Other (per visit).

Total Burden Hours: 23,000.

Forest Service

Title: Youth Conservation Corps Application & Medical History Forms.

OMB Control Number: 0596-0084.

Summary of Collection: Under Public Law 93-408, the Youth Conservation Corps Act (YCC), the Forest Service (U.S. Department of Agriculture), and agencies within the Department of the Interior (the Fish and Wildlife Service, National Park Service, and Bureau of Land Management) cooperate to provide seasonal employment for eligible youth 15 to 18 years old.

Need and Use of the Information: Youth, ages 15-18, who seek training and employment with participating agencies through the YCC must complete an application form (FS-1800-18) and once selected for employment must complete a medical history form (FS-1800-3). The applicant's parents or guardian must sign both forms. The application form is used in the random selection process and the medical history form provides information needed to determine certification of suitability, any special medical or medication needs, and a file record for the Federal Government and participants. If these forms were not used, the Federal government's ability to oversee the Youth Conservation Corps program would be greatly impaired. The organizational and liability issues that would result from inability to collect the information needed to manage the program would be virtually insurmountable.

Description of Respondents: Individuals or households.

Number of Respondents: 20,000.

Frequency of Responses: Annually.

Total Burden Hours: 2,267.

Charlene Parker,
Departmental Information Collection Clearance Officer.

[FR Doc. 2010-3436 Filed 2-22-10; 8:45 am]

BILLING CODE 3410-11-P